DEPARTMENT OF THE INTERIOR

Bureau of Land Management

[OR-130-1430-HN; GP7-0188]

Notice of Public Meeting, Eastern Washington Resource Advisory Council Meeting

AGENCY: Bureau of Land Management, U.S. Department of the Interior.

ACTION: Notice of Public Meeting.

SUMMARY: In accordance with the Federal Land Policy and Management Act of 1976 and the Federal Advisory Committee Act of 1972, the U.S. Department of the Interior, Bureau of Land Management (BLM) Eastern Washington Resource Advisory Council will meet as indicated below.

DATES: Thursday, September 20, 2007 at the Holiday Inn Express, 1620 Canyon Rd., Ellensburg, WA 98926.

SUPPLEMENTARY INFORMATION: The meeting will start at 1:30 p.m., end at approximately 3 p.m., and be open to the public. Discussion will focus on the potential development of wind energy facilities on public lands. There will be an opportunity for public comments at 2:30 p.m.

FOR FURTHER INFORMATION CONTACT: Scott Pavey or Sandie Gourdin, BLM, Spokane District, 1103 N. Fancher Rd., Spokane Valley, WA 99212, or call (509) 536-1200.

Dated: August 27, 2007.
Richard Bailey,
Acting District Manager.

[FR Doc. E7-17291 Filed 8-30-07; 8:45 am]

BILLING CODE 4310-33-P